ENVIRONMENTAL PROTECTION AGENCY

40 CFR Part 180

[EPA-HQ-OPP-2006-0586; FRL-8089-5]

Propanil, Phenmedipham, Triallate, and MCPA; Proposed Tolerance Actions

AGENCY: Environmental Protection Agency (EPA).

ACTION: Proposed rule.

SUMMARY: EPA is proposing to revoke certain tolerances for herbicides propanil, triallate, and MCPA. Also, EPA is proposing to modify certain tolerances for the herbicides propanil, phenmedipham, triallate, and MCPA. In addition, EPA is proposing to establish tolerances for the herbicides propanil, phenmedipham, triallate, and MCPA.

DATES: Comments must be received on or before November 27, 2006.

ADDRESSES: Submit your comments, identified by docket identification (ID) number EPA-HQ-OPP-2006-0586, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2006-0586. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 3057-5805.

FOR FURTHER INFORMATION CONTACT: Jane Smith, Special Review and Reregistration Division (7805P), Office of Pesticide Programs, Environmental Protection Agency, 1200 Pennsylvania Ave, NW., Washington, DC 20460-0001; telephone number: (703) 308-0048; e-mail address: smith.jane-scott@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II.A. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. What Can I do if I Wish the Agency to Maintain a Tolerance that the Agency Proposes to Revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under Federal Food, Drug, and Cosmetic Act (FFDCA) section 408(f) if needed. The order would specify data needed and the time frames for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What Action is the Agency Taking?

EPA is proposing to revoke, remove, modify, and establish specific tolerances for residues of the herbicides propanil, phenmedipham, triallate, and MCPA in or on commodities listed in the regulatory text.

EPA is proposing these tolerance actions to implement the tolerance recommendations made during the reregistration and tolerance reassessment processes (including follow-up on canceled or additional uses of pesticides). As part of these processes, EPA is required to determine whether each of the amended tolerances meets the safety standard of the Food Quality Protection Act (FQPA). The safety finding determination of “reasonable certainty of no harm” is discussed in detail in each Reregistration Eligibility Decision (RED) and Report of the FQPA Tolerance Reassessment Progress and Risk Management Decision (TRED) for the active ingredients. REDs and TREDs recommend the implementation of certain tolerance actions, including modifications to reflect current use patterns, meet safety findings, and change commodity names and groupings in accordance with new EPA policy. Printed copies of many REDs and TREDs may be obtained from EPA's National Service Center for Environmental Publications (EPA/NSCEP), P.O. Box 42419, Cincinnati, OH 452427-2419, telephone 1-800-490-9198; fax 1-513-489-8695; internet at http://www.epa.gov/ncepihom and from the National Technical Information Service (NTIS), 5285 Port Royal Road, Springfield, VA 22161, telephone 1-800-553-6847 or (703) 605-6000; internet at http://www.ntis.gov. Electronic copies of REDs and TREDs are available on propanil, phenmedipham, triallate, and MCPA at the internet at http://www.epa.gov/pesticides/reregistration/status.htm and in public dockets EPA-HQ-OPP-2003-0348 and EPA-HQ-OPP-2002-0033 (propanil); EPA-HQ-OPP-2004-0384 (phenmedipham); and EPA-HQ-OPP-2004-0156 and EPA-HQ-OPP-2004-0239 (MCPA) at http://www.regulations.gov.

The selection of an individual tolerance level is based on crop field residue studies designed to produce the maximum residues under the existing or proposed product label. Generally, the level selected for a tolerance is a value slightly above the maximum residue found in such studies. The evaluation of whether a tolerance is safe is a separate inquiry. EPA recommends the raising of a tolerance when data show that (1) lawful use (sometimes through a label change) may result in a higher residue level on the commodity and (2) the tolerance remains safe, notwithstanding increased residue level allowed under the tolerance. In REDs, Chapter IV on Risk management, Reregistration, and Tolerance Reassessment typically describes the regulatory position, FQPA assessment, cumulative safety determination, determination of safety for U.S. general population, and safety for infants and children. In particular, the human health risk assessment document which supports the RED describes risk exposure estimates and whether the Agency has concerns. In TREDs, the Agency discusses its evaluation of the dietary risk associated with the active ingredient and whether it can determine that there is a reasonable certainty (with appropriate mitigation) that no harm to any population subgroup will result from aggregate exposure.

Explanations for proposed modifications in tolerances can be found in the RED and TRED document and in more detail in the Residue Chemistry Chapter document which supports the RED and TRED. Copies of the Residue Chemistry Chapter documents are found in the Administrative Record and paper copies are available in the public docket for this proposed rule, while electronic copies are available through EPA's electronic public docket and comment system, regulations.gov at http://www.regulations.gov. You may search for docket ID number EPA-HQ-OPP-006-0586, then click on that docket ID number to view its contents.

EPA has determined that the aggregate exposures and risks are not of concern for the above mentioned pesticide active ingredients based upon the data identified in the RED or TRED which lists the submitted studies that the Agency found acceptable.

With respect to the tolerances that are proposed in this document to be modified, unless technical (e.g., commodity tolerance nomenclature revision), EPA has found that these tolerances are safe in accordance with FFDCA section 408(b)(2)(A), and that there is a reasonable certainty that no harm will result to infants and children from aggregate exposure to the pesticide chemical residues, in accordance with section 408(b)(2)(C). These findings are discussed in detail in each RED. The references are available for inspection as described in this document under SUPPLEMENTARY INFORMATION.

In addition, EPA is proposing to revoke certain specific tolerances because either they are no longer needed or are associated with food uses that are no longer registered under the Federal Insecticide, Fungicide, and Rodenticide Act (FIFRA). The registrations for these pesticide chemicals were canceled because the registrant failed to pay the required maintenance fee and/or the registrant voluntarily canceled one or more registered uses of the pesticide. It is EPA's general practice to propose revocation of those tolerances for residues of pesticide active ingredients on crop uses for which there are no active registrations under FIFRA, unless any person in comments on the proposal indicates a need for the tolerance to cover residues in or on imported commodities or domestic commodities legally treated.

1. Propanil. Currently, in 40 CFR 180.274 (a)(1) and (2), tolerances are established for the combined residues of propanil and its metabolites (calculated as propanil) in or on both raw agricultural commodities (RACs) and processed foods and feeds. EPA is proposing to revise the tolerance expression to specify the residues of concern and combine the RACs and processed foods and feed tolerances in accordance with FFDCA 408 as amended by FQPA (1996) in 40 CFR 180.274(a) to read as follows: Tolerances are established for the combined residues of the herbicide propanil (3′, 4′-dichloropropionanilide) and its metabolites convertible to 3, 4-dichloroaniline (3, 4-DCA).

Tolerances currently exist for rice milling fractions and rice polishings. Rice milling fractions are no longer considered a significant animal feed item as delineated in “Table 1.—Raw Agricultural and Processed Commodities and Feedstuffs Derived from Crops” which is found in Residue Chemistry Test Guidelines OPPTS 860.1000 dated August 1996, available at http://www.epa.gov/opptsfrs/publications/OPPTS_Harmonized/860_Residue_Chemistry_Test_Guidelines/Series. Therefore, EPA is proposing to remove the tolerances in 40 CFR 180.274(a) for the combined residues of propanil in or on rice milling fractions and rice, polishings at 10 parts per million (ppm).

The registered uses on barley, oat, and wheat (small grains) have been voluntarily cancelled (68 FR 68901, December 10, 2003) (FRL-7332-5), (68 FR 38328, June 27, 2003) (FRL-7310-6). In the absence of registered uses, the tolerances associated with the small grains should be revoked. Therefore, EPA is proposing to revoke the tolerances in 40 CFR 180.274(a) for the combined propanil residues of concern in or on barley, straw; oat, straw; and wheat, straw at 0.75 ppm; barley, grain at .2 ppm; oat, grain at .2 ppm; wheat, grain at 0.2 ppm.

Two studies depicting the magnitude of regulated propanil residues in or on rice, grain exceeded the established tolerance of 2 ppm in or on treated rice, grain samples demonstrating residues ranging from 0.03 ppm to 8.7 ppm. Based on these data, EPA determined the tolerance should be 10 ppm on rice, grain. Therefore, EPA is proposing to increase the tolerance in 40 CFR 180.274(a) for the combined propanil residues of concern in or on rice, grain from 2 ppm to 10 ppm. The Agency determined that the increased tolerance is safe; i.e. there is a reasonable certainty that no harm will result from aggregate exposure to the pesticide chemical residue.

A rice processing study showed no concentration of residues in polished rice and average concentration factors of 3.5x for rice, hulls and 4.6x for rice, bran. The highest average field trial (HAFT) propanil residues found in rice were 8.7 ppm. Based on this HAFT and the observed concentration factors, the maximum expected residues are 30.45 ppm in or on rice, hulls (8.7 x 3.5) and 40.02 ppm in or on rice, bran (8.7 x 4.6). These expected residues are higher in the processed commodities than the reassessed tolerance of 10 ppm for rice, grain. Based on these data, EPA has determined that the tolerances should be 30 ppm on rice, hulls and 40 ppm on rice, bran. Therefore, EPA is proposing to increase tolerances in 40 CFR 180.274(a) for the combined propanil residues of concern in or on rice, hulls from 10 to 30 ppm and rice, bran from 10 to 40 ppm. The Agency determined that the increased tolerances are safe; i.e. there is a reasonable certainty that no harm will result from aggregate exposure to the pesticide chemical residue.

The potential for secondary transfer of propanil residues to animal commodities exists because the herbicide is registered for use on rice, which may be used as animal feed. Based on a maximum theoretical dietary burden (x) and using the residues levels found in dairy cattle and milk fed 15 ppm (0.75x) resulted in residues of: 0.035 ppm in milk, 0.31 ppm in liver, 0.77 ppm in kidney, < 0.05 ppm (non-detectable) in muscle, and 0.10 ppm in fat. Based on these data, the Agency determined the tolerances should be 0.05 ppm in cattle, meat; goat, meat; hog, meat; horse, meat; and sheep, meat; and 1.0 ppm in cattle, meat byproducts; goat, meat byproducts; hog, meat byproducts; horse, meat byproducts; and sheep,meat byproducts. In addition, the term “negligible residue” and its designation, “(N)” associated with the milk and animal tissue tolerances is being removed to conform to current Agency policy and practice. Therefore, EPA is proposing in 40 CFR 180.274(a) for the combined propanil residues of concern to maintain and revise the tolerances in or on milk from 0.05(N) ppm to 0.05 ppm and cattle, fat; goat, fat; hog, fat; horse, fat; and sheep, fat from 0.1(N) ppm to 0.10 ppm; to decrease and revise the tolerances in or on cattle, meat; goat, meat; hog, meat; horse, meat; and sheep, meat from 0.1(N) to 0.05 ppm; and to increase and revise the tolerances in or on cattle, meat byproducts; goat, meat byproducts; hog, meat byproducts; horse, meat byproducts; and sheep,meat byproducts from 0.1(N) to 1.0 ppm. The Agency determined that the increased tolerances are safe; i.e. there is a reasonable certainty that no harm will result from aggregate exposure to the pesticide chemical residue.

Maximum propanil residues were 0.212 ppm and 0.372 ppm, respectively, in eggs from hens dosed with propanil 15 ppm (0.9x), and 50 ppm (3.1x). Residues in liver from hens in the 15 ppm (0.9x), and 50 ppm (3.1x) dose groups were 0.183-0.236, and 0.824-1.755 ppm, respectively. Residues in muscle were < 0.050-0.076 and 0.087-0.161 ppm from the 0.9x and 3.1x dose groups, respectively. In fat, propanil residues of concern were < 0.05 ppm (< non-detectable) up to 0.9x feeding levels, and < 0.139-0.348 ppm at 3.1x. Based on these data, the Agency has determined that the propanil tolerances should be 0.30 ppm for egg; 0.05 ppm for poultry, fat; 0.50 ppm for poultry, meat byproducts; and 0.10 ppm for poultry, meat. In addition, the term “negligible residue” and its designation, “(N)” associated with the egg and animal tissue tolerances is being removed to conform to current Agency policy and practice. Therefore, EPA is proposing in 40 CFR 180.274(a) for the combined propanil residues of concern to increase and revise the tolerance for egg from 0.05(N) to 0.30 ppm; to decrease and revise the tolerance in or on poultry, fat from 0.1(N) to 0.05 ppm; to increase and revise the tolerance for poultry, meat byproducts from 0.1(N) to 0.50 ppm; and maintain and revise the tolerance in or on poultry, meat from 0.1(N) to 0.10 ppm. The Agency determined that the increased tolerances are safe; i.e. there is a reasonable certainty that no harm will result from aggregate exposure to the pesticide chemical residue.

Residues of propanil and its metabolites, determined as base-releasable 3, 4 DCA and expressed as propanil equivalents, were < 0.01-0.03 ppm in or on the edible portions of crayfish (1x maximum season rate). Based on these data, the Agency determined the tolerance should be 0.05 ppm on crayfish. Therefore, EPA is proposing to establish a tolerance in 40 CFR 180.274(a) for the combined propanil residues of concern in or on crayfish at 0.05 ppm.

In addition, the “N” (negligible residues) designation correlated with tolerances is being removed to conform to current Agency practice. Therefore, EPA is proposing to revise the tolerance in 40 CFR 180.274(a) for the combined propanil residues of concern in or on rice, straw from 75(N) ppm to 75 ppm.

2. Phenmedipham. The current tolerance expression in 40 CFR 180.278 refers to phenmedipham as methyl m-hydroxycarbanilate m-methylcarbanilate which should be changed to the more appropriate chemical name, 3-methoxycarbonylaminophenyl-3-methylcarbanilate. Therefore, EPA proposes to change the chemical name in 40 CFR 180.278(a) for residues of the herbicide phenmedipham to 3-methoxycarbonylaminophenyl-3-methylcarbanilate.

Spinach field trial residue data generated at the 1x seasonal application rate and 14-22 day pre-harvest interval (PHI) resulted in residues ranging from 2.1-3.6 ppm. Additional trials conducted at similar rates and PHIs yielded residues ranging from < 0.05 to 0.17 ppm. Based on the more recent residue data and use pattern, EPA has determined the tolerance on spinach should be 4.0 ppm. Therefore, EPA is proposing to increase the tolerance in 40 CFR 180.278(a) for residues of phenmedipham in or on spinach from 0.5 ppm to 4.0 ppm. The Agency determined that the increased tolerance is safe; i.e. there is a reasonable certainty that no harm will result from aggregate exposure to the pesticide chemical residue.

Sugar beet processing studies indicate that phenmedipham residues of concern concentrated 3x in dried pulp, 1.3x in molasses, and did not concentrate in sugar. Because of the concentration factors associated with dried pulp and molasses, the current tolerance of 0.1 ppm for raw beet, sugar, roots and beet, sugar, tops is not adequate to cover the dried pulp and molasses from sugar beets; therefore, the Agency has determined that tolerances should be established for beet, sugar, dried pulp at 0.5 ppm and beet, sugar, molasses at 0.2 ppm. EPA is proposing to establish tolerances in 40 CFR 180.278(a) for residues of phenmedipham in or on beet, sugar, dried pulp at 0.5 ppm and beet, sugar, molasses at 0.2 ppm.

In addition, the “N” (negligible residues) designation that is correlated with some of the tolerances is being removed to conform to current Agency practice. Therefore, EPA is proposing to revise the tolerances in 40 CFR 180.278(a) for residues of phenmedipham in or on beet, garden at 0.2(N) ppm to beet, garden, roots at 0.2 ppm; beet, sugar, roots at 0.1(N) ppm to 0.1 ppm; and beet, sugar, tops at 0.1(N) ppm to 0.1 ppm.

3. Triallate. The available data, reflecting the maximum registered use patterns, indicate that the maximum combined triallate residues of concern were 0.26 ppm in or on barley, straw; 0.12 ppm in or on the seed and pods of succulent peas; 0.39 ppm in or on the vines of succulent peas; 0.27 ppm in or on the vines of dried peas; 0.73 ppm in or on the straw (hay) of succulent peas; 0.36 ppm in or on the straw of dried peas; and 0.94 ppm in or on wheat, straw in the states of: Colorado, Idaho, Kansas, Minnesota, Montana, Nebraska, Nevada, North Dakota, Oregon, South Dakota, Utah, Washington, and Wyoming. In addition, the term “negligible residue” and its designation, “(N)” associated with the barley, grain tolerance is being removed to conform to current Agency policy and practice. Based on these data, the Agency determined the tolerances should be 0.3 ppm on barley, straw; 1.0 ppm on pea, field, hay; 0.5 ppm on pea, field, vines; 0.2 ppm on pea, succulent; and 1.0 ppm on wheat, straw and recodified under 40 CFR 180.314(c) as regional tolerances. Therefore, EPA is proposing the tolerances in 40 CFR 180.314(c) for the combined residues of concern to be increased in or on barley, straw from 0.05 to 0.3 ppm; pea, field, hay from 0.05 to 1.0 ppm; pea, field, vines from 0.05 to 0.5 ppm; pea, succulent from 0.05 to 0.2 ppm; wheat, straw from 0.05 to 1.0 ppm; and reclassified from 40 CFR 180.314(a) to 40 CFR 180.314(c) for barley, grain at 0.05 ppm and wheat, grain at 0.05 ppm. The Agency determined that the increased tolerances are safe; i.e., there is a reasonable certainty that no harm will result from aggregate exposure to the pesticide chemical residue.

Lentil, hay is no longer considered significant livestock feed item and has been removed from Table 1 (OPPTS GLN 860.1000) and lentil, seed is covered by the established pea tolerance in accordance with 40 CFR 180.1(h). As a result, EPA proposes removing the tolerances in 40 CFR 180.314(a) for the combined triallate residues of concern in or on lentil, hay at 0.05 ppm and lentil, seed at 0.05 ppm.

Sugar beet processing studies were conducted on sugar beets treated at 5x the seasonal application rate resulting in maximum residues of 0.14 ppm in root, 0.30 ppm in dried pulp, and < 0.03 ppm in sugar and molasses. Therefore, EPA is proposing to maintain the tolerances and correct the terminology for sugar beets to include roots in 40 CFR 180.314(c) for the combined triallate residues of concern in or on beet, sugar, dried pulp at 0.2 ppm; beet, sugar, roots at 0.1 ppm; and beet, sugar, tops at 0.5 ppm.

The available data, reflecting the maximum registered use patterns, indicate that the maximum combined triallate residues of concern were < 0.02 ppm in or on the seed and pods of pea, dry and 0.94 ppm on wheat, straw. Because of similar cultural practices and identical use rates, wheat, straw data is used to support tolerances for barley, hay and wheat, hay. Based on these data, the Agency determined the tolerances should be 0.2 ppm for pea, dry and 1.0 ppm for barley, hay and wheat, hay by translating the data from wheat, straw. Therefore, EPA is proposing to establish tolerances in 40 CFR 180.314(c) for the combined triallate residues of concern in or on barley, hay at 1.0 ppm; pea, dry at 0.2 ppm; and wheat, hay at 1.0 ppm. The Agency determined that the establishment of these tolerances is safe; i.e., there is a reasonable certainty that no harm will result from aggregate exposure to the pesticide chemical residue.

Although tolerances are established on animal feed items, tolerances on the edible tissues of animals are not necessary because the available residue data generated using exaggerated rates indicate there is no reasonable expectation of finite residues in meat, milk, poultry, and eggs as a result of ingestion of pesticide residues on raw agricultural commodities in accordance with 40 CFR 180.6(a)(3).

4. MCPA. The current tolerance expression 40 CFR 180.339(a) regulates residues of the herbicide 2-methyl-4-chlorophenoxyacetic acid (MCPA) from application of the herbicide in acid form or in the form of its sodium, ethanolamine, diethanolamine, triethanolamine, isopropanolamine, diisopropanolamine, triisopropanolamine, or dimethylamine salts or isooctyl or butoxyethyl esters and 40 CFR 180.339(b) tolerances are established for combined negligible residues (N) of the herbicide 2-methyl-4-chlorophenoxyacetic acid and its metabolite 2-methyl-4-chlorophenol. Based on toxicity data for 2-methyl-4-chlorophenol, a currently regulated livestock metabolite, EPA determined that it is of significantly less concern than the parent compound and therefore can be excluded from the tolerance expression. Although the chemical name for MCPA has been presented as “(2-methyl-4-chlorophenoxy)acetic acid”, under current chemical naming conventions the “(4-chloro-2-methylphenoxy)acetic acid” designation is preferred. EPA determined the residues to be regulated in plant commodities (40 CFR 180.339(a)) are parent, free and conjugated MCPA. When MCPA is applied in various forms (e.g. ethanolamine and other salts and esters), a single common moiety is released that is the pesticidally active component and serves as the basis for tolerance regulation. Therefore, EPA is proposing to change the tolerance expression in 40 CFR 180.339(a) to read as follows: tolerances are established for residues of the herbicide MCPA [(4-chloro-2-methylphenoxy)acetic acid)], both free and conjugated, resulting from the direct application of MCPA or its sodium or dimethylamine salts, or its 2-ethylhexyl ester and in 40 CFR 180.339(b) to read as follows: tolerances are established for residues of the herbicide MCPA [(4-chloro-2-methylphenoxy)acetic acid)] resulting from the direct application of MCPA or its sodium or dimethylamine salts, or its 2-ethylhexyl ester. 40 CFR 180.339 (a) and (b) will be revised to read 40 CFR 180.339 (a)(1) and (2) for consistency. Lastly, the term “negligible residue” and its designation, “(N)”, associated with some tolerances is being removed to conform to current Agency policy and practice.

Currently, tolerances exist reflecting uses of MCPA on rice, sorghum, flax (straw) and canarygrass. The uses on rice, sorghum, and canarygrass are no longer registered uses (69 FR 39467, June 30, 2004) (FRL-7363-4) (71 FR 24687, April 26, 2006) (FRL-8059-2). EPA policy no longer requires tolerances to be established for flax, straw. Therefore, EPA is proposing to revoke tolerances in 40 CFR 180.339(a)(1) for the combined MCPA residues of concern in or on flax, straw at 2 ppm; grass, canary, annual, straw at 0.1 ppm; canary, annual, seed at 0.1 ppm; rice, grain at 0.1(N) ppm; rice, straw at 2 ppm; sorghum, forage at 20 ppm; sorghum, grain at 0.1 ppm; and sorghum, grain, stover at 20 ppm.

The crop field trial data indicate that the maximum combined residues of MCPA and its metabolites are < 0.29 ppm in or on alfalfa, forage and < 1.07 ppm in or on alfalfa, hay. Alfalfa, forage and alfalfa, hay data will also be used to satisfy crop field trial requirements for the clover, forage; clover hay; lespedeza, forage; lespedeza, hay; trefoil, forage; trefoil, hay; vetch, forage; and vetch, hay. Ordinarily, the Agency would not translate data from alfalfa, forage and alfalfa, hay to support uses on clover, forage; clover hay; lespedeza, forage; lespedeza, hay; trefoil, forage; trefoil, hay; vetch, forage; and vetch, hay; however, because the only supported use of MCPA on these crops is to the crops underseeded to small grains it is reasonable to use alfalfa, forage and alfalfa, hay data to support these uses. Based on these data, EPA has determined the tolerance should be 0.5 ppm in or on alfalfa, forage; clover, forage; lespedeza, forage; trefoil, forage; and vetch, forage; and 2.0 ppm in or on alfalfa, hay; clover hay; lespedeza, hay; trefoil, hay; and vetch, hay. Therefore, EPA is proposing to increase tolerances and revise the terminology to include forage consistently in 40 CFR 180.339 (a)(1) for residues of MCPA in or on alfalfa, forage; clover, forage; lespedeza, forage; trefoil, forage; and vetch, forage from 0.1 to 0.5 ppm and alfalfa, hay; clover hay; lespedeza, hay; trefoil, hay; and vetch, hay from 0.1 to 2.0 ppm. The Agency determined that the increased tolerances are safe; i.e. there is a reasonable certainty that no harm will result from aggregate exposure to the pesticide chemical residue.

The crop field trial data indicate that the maximum combined residues of MCPA and its metabolites are 0.72 ppm in or on wheat, grain and 21.4 ppm in or on wheat, straw. Based on the HAFT residue of 0.08 ppm for wheat, grain, expected MCPA residues of concern in or on wheat bran and germ will not exceed the established tolerance of 0.1 ppm for wheat, grain and for wheat processed commodities. Because of similar cultural practices and identical use rates, wheat residue field trial data is used to support tolerances for barley, oat, and rye. Based on these data, EPA has determined the tolerance should be 1.0 ppm in or on barley, grain; oat, grain; rye, grain; and wheat, grain and 25 ppm in or on barley, straw; oat, straw; rye, straw; and wheat, straw. Therefore, EPA is proposing to increase the tolerances in 40 CFR 180.339(a)(1) for residues of MCPA in or on barley, grain; oat, grain; rye, grain; and wheat, grain from 0.1 to 1.0 ppm and barley, straw; oat, straw; rye, straw; and wheat, straw from 2 to 25 ppm. The Agency determined that these increased tolerances are safe; i.e. there is a reasonable certainty that no harm will result from aggregate exposure to the pesticide chemical residue.

The crop field trial data indicate that the maximum combined residues of MCPA and its metabolites are 19.4 ppm (7 day PHI) in or on wheat, forage, 39.5 ppm and 111 ppm (7 and14 day PHIs, respectively) in or on wheat, hay. Also, these data are translated to support tolerances for barley, hay and oat, hay and oat, forage and rye, forage. Based on these data, EPA determined the tolerances should be 20 ppm on oat, forage; rye, forage; and wheat, forage and 115 ppm on barley, hay; oat, hay; and wheat, hay. EPA is proposing tolerances be established in 40 CFR 180.339(a)(1) for residues of MCPA in or on wheat, forage at 20 ppm; and barley, hay; oat, hay; and wheat, hay at 115 ppm; and maintain tolerances for oat, forage and rye, forage at 20 ppm. The Agency determined that these newly established tolerances are safe; i.e. there is a reasonable certainty that no harm will result from aggregate exposure to the pesticide chemicals residue.

In addition, EPA is proposing to revise commodity terminology and tolerances to conform to current Agency practice at 40 CFR 180.339 as follows: “grass, pasture and grass, rangeland at 300 ppm to grass, forage at 300 ppm;” “peavines at 0.1(N) ppm to pea, vines at 0.1 ppm;” “peavines, hay at 0.1(N) ppm to pea, hay at 0.1 ppm;” “vegetables, seed and pod at 0.1 ppm to pea, dry at 0.1 ppm and pea, succulent at 0.1 ppm;” “cattle, fat; goat, fat; hog, fat; horse, fat; and sheep, fat; cattle, meat byproducts; goat, meat byproducts; hog, meat byproducts; horse, meat byproducts; and sheep, meat byproducts; and cattle, meat; goat, meat; hog, meat; horse, meat; and sheep, meat at 0.1(N) ppm to 0.1 ppm;” and “milk at 0.1(N) ppm to 0.1 ppm.”

B. What is the Agency's Authority for Taking this Action?

A “tolerance” represents the maximum level for residues of pesticide chemicals legally allowed in or on raw agricultural commodities and processed foods. Section 408 of FFDCA, 21 U.S.C. 346a, as amended by the FQPA of 1996, Public Law 104-170, authorizes the establishment of tolerances, exemptions from tolerance requirements, modifications in tolerances, and revocation of tolerances for residues of pesticide chemicals in or on raw agricultural commodities and processed foods. Without a tolerance or exemption, food containing pesticide residues is considered to be unsafe and therefore “adulterated” under section 402(a) of the FFDCA, 21 U.S.C. 342(a). Such food may not be distributed in interstate commerce (21 U.S.C. 331(a)). For a food-use pesticide to be sold and distributed, the pesticide must not only have appropriate tolerances under the FFDCA, but also must be registered under FIFRA (7 U.S.C. 136 et seq.). Food-use pesticides not registered in the United States must have tolerances in order for commodities treated with those pesticides to be imported into the United States.

EPA is proposing these tolerance actions to implement the tolerance recommendations made during the reregistration and tolerance reassessment processes (including follow-up on canceled or additional uses of pesticides). As part of these processes, EPA is required to determine whether each of the amended tolerances meets the safety standard of the FQPA. The safety finding determination is discussed in detail in each Post-FQPA RED and TRED for the active ingredient. REDs and TREDs recommend the implementation of certain tolerance actions, including modifications to reflect current use patterns, to meet safety findings, and change commodity names and groupings in accordance with new EPA policy. Printed and electronic copies of the REDs and TREDs are available as provided in Unit II.A.

EPA has issued post-FQPA REDs for propanil, phenmedipham, triallate, and MCPA, and a TRED for propanil. REDs and TREDs contain the Agency's evaluation of the data base for these pesticides, including requirements for additional data on the active ingredients to confirm the potential human health and environmental risk assessments associated with current product uses, and in REDs state conditions under which these uses and products will be eligible for reregistration. The REDs and TREDs recommended the establishment, modification, and/or revocation of specific tolerances. RED and TRED recommendations such as establishing or modifying tolerances, and in some cases revoking tolerances, are the result of assessment under the FQPA standard of “reasonable certainty of no harm.” However, tolerance revocations recommended in REDs and TREDs that are proposed in this document do not need such assessment when the tolerances are no longer necessary.

EPA's general practice is to propose revocation of tolerances for residues of pesticide active ingredients on crops for which FIFRA registrations no longer exist and on which the pesticide may therefore no longer be used in the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under section 408 of the FFDCA, a tolerance may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances for residues on crops uses for which FIFRA registrations no longer exist, unless someone expresses a need for such tolerances. Through this proposed rule, the Agency is inviting individuals who need these import tolerances to identify themselves and the tolerances that are needed to cover imported commodities.

Parties interested in retention of the tolerances should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance at issue.

When EPA establishes tolerances for pesticide residues in or on raw agricultural commodities, consideration must be given to the possible residues of those chemicals in meat, milk, poultry, and/or eggs produced by animals that are fed agricultural products (for example, grain or hay) containing pesticides residues (40 CFR 180.6). When considering this possibility, EPA can conclude that:

1. Finite residues will exist in meat, milk, poultry, and/or eggs.

2. There is a reasonable expectation that finite residues will exist.

3. There is a reasonable expectation that finite residues will not exist. If there is no reasonable expectation of finite pesticide residues in or on meat, milk, poultry, or eggs, tolerances do not need to be established for these commodities (40 CFR 180.6(b) and (c)).

EPA has evaluated certain specific meat, milk, poultry, and egg tolerances proposed for revocation in this proposed rule and has concluded that there is no reasonable expectation of finite pesticide residues of concern in or on those commodities.

C. When do These Actions Become Effective?

EPA is proposing that modifications, establishment, commodity terminology revisions, and revocation of these tolerances become effective on the date of publication of the final rule in the Federal Register because their associated uses have been canceled for several years. The Agency believes that treated commodities have had sufficient time for passage through the channels of trade. However, if EPA is presented with information that existing stocks would still be available and that information is verified, the Agency will consider extending the expiration date of the tolerance. If you have comments regarding existing stocks and whether the effective date allows sufficient time for treated commodities to clear the channels of trade, please submit comments as described under SUPPLEMENTARY INFORMATION.

Any commodities listed in this proposal treated with the pesticides subject to this proposal, and in the channels of trade following the tolerance revocations, shall be subject to FFDCA section 408(1)(5), as established by FQPA. Under this section, any residues of these pesticides in or on such food shall not render the food adulterated so long as it is shown to the satisfaction of the Food and Drug Administration that:

1. The residue is present as the result of an application or use of the pesticide at a time and in a manner that was lawful under FIFRA, and

2. The residue does not exceed the level that was authorized at the time of the application or use to be present on the food under a tolerance or exemption from tolerance. Evidence to show that food was lawfully treated may include records that verify the dates when the pesticide was applied to such food.

III. Are the Proposed Actions Consistent with International Obligations?

The tolerance revocations in this proposal are not discriminatory and are designed to ensure that both domestically-produced and imported foods meet the food safety standard established by the FFDCA. The same food safety standards apply to domestically produced and imported foods.

The tolerance actions in this proposal apply equally to domestically-produced and imported foods. In making its tolerance decisions, the Agency seeks to harmonize with international standards whenever possible, consistent with U.S. food safety standards and agricultural practices. EPA considers the international Maximum Residue Limits (MRLs) established by the Codex Alimentarius Commission, as required by section 408(b)(4) of the FFDCA. The Codex Alimentarius is a joint United Nations Food and Agriculture Organization/World Health Organization food standards program, and it is recognized as an international food safety standards-setting organization in trade agreements to which the United States is a party. EPA also considers MRLs established in Canada and Mexico. EPA may establish a tolerance that is different from a Codex MRL; however, FFDCA section 408(b)(4) requires that EPA explain in a Federal Register document the reasons for departing from the Codex level. Specific tolerance actions in this proposed rule are discussed in Unit II.A. EPA's efforts to harmonize with MRLs is summarized in the tolerance reassessment section of individual REDs and TREDs as mentioned in Unit II.A. EPA has developed guidance concerning submissions for import tolerance support (65 FR 35069, June 1, 2000) (FRL-6559-3). This guidance will be made available to interested persons. Electronic copies are available on the internet at http://www.epa.gov. On the Home Page select “Laws, Regulations, and Dockets,” then select Regulations and Proposed Rules and then look up the entry for this document under “Federal Register—Environmental Documents.” You can also go directly to the “Federal Register” listings at http://www.epa.gov/fedrgstr.

IV. Statutory and Executive Order Reviews

In this proposed rule, EPA is proposing to establish tolerances under FFDCA section 408(e), and also modify and revoke specific tolerances established under FFDCA section 408. The Office of Management and Budget (OMB) has exempted these types of actions (e.g., establishment and modification of a tolerance and tolerance revocation for which extraordinary circumstances do not exist) from review under Executive Order 12866, entitled Regulatory Planning and Review (58 FR 51735, October 4, 1993). Because this proposed rule has been exempted from review under Executive Order 12866 due to its lack of significance, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020), respectively, and were provided to the Chief Counsel for Advocacy of the Small Business Administration. Taking into account this analysis, and available information concerning the pesticides listed in this proposed rule, the Agency hereby certifies that this proposed action will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation (this Agency document is available in the docket of this proposed rule). Furthermore, for the pesticide named in this proposed rule, the Agency knows of no extraordinary circumstances that exist as to the present proposal that would change EPA's previous analysis. Any comments about the Agency's determination should be submitted to the EPA along with comments on the proposal, and will be addressed prior to issuing a final rule. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of section 408(n)(4) of the FFDCA. For these same reasons, the Agency has determined that this proposed rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: September 20, 2006.
James Jones,
Director, Office of Pesticide Programs.

Therefore, it is proposed that 40 CFR part 180 be amended as follows:

PART 180—[AMENDED]

1. The authority citation for part 180 would continue to read as follows:

Authority: 21 U.S.C. 321(q), 346a and 371.

2. Section 180.274 is amended by revising paragraph (a) to read as follows:

§ 180.274 Propanil; tolerances for residues.

(a) General. Tolerances are established for the combined residues of the herbicide propanil (3′, 4′-dichloropropionanilide) and its metabolites convertible to 3, 4-dichloroaniline (3, 4-DCA) in or on the following food commodities:

Commodity | Parts per million
Cattle, fat | 0.10
Cattle, meat byproducts | 1.0
Cattle, meat | 0.05
Crayfish | 0.05
Egg | 0.30
Goat, fat | 0.10
Goat, meat byproducts | 1.0
Goat, meat | 0.05
Hog, fat | 0.10
Hog, meat byproducts | 1.0
Hog, meat | 0.05
Horse, fat | 0.10
Horse, meat byproducts | 1.0
Horse, meat | 0.05
Milk | 0.05
Poultry, fat | 0.05
Poultry, meat byproducts | 0.50
Poultry, meat | 0.10
Rice, bran | 40
Rice, grain | 10
Rice, hulls | 30
Rice, straw | 75
Sheep, fat | 0.10
Sheep, meat byproducts | 1.0
Sheep, meat | 0.05

* * * * *

3. Section 180.278 is revised to read as follows:

§ 180.278 Phenmedipham; tolerances for residues.

(a) General. Tolerances are established for the combined residues of the herbicide phenmedipham (3-methoxycarbonylaminophenyl-3-methylcarbanilate) in or on the following food commodities:

Commodity | Parts per million
Beet, garden, roots | 0.2
Beet, sugar, dried pulp | 0.5
Beet, sugar, molasses | 0.2
Beet, sugar, roots | 0.1
Beet, sugar, tops | 0.1
Spinach | 4.0

(b) Section 18 emergency exemptions. [Reserved]

(c) Tolerances with regional registrations. [Reserved]

(d) Indirect or inadvertent residues. [Reserved]

4. Section 180.314 is revised to read as follows:

§ 180.314 Triallate; tolerances for residues.

(a) General. [Reserved]

(b) Section 18 emergency exemptions. [Reserved]

(c) Tolerances with regional registrations. Tolerances are established for residues of the herbicide (S-2, 3, 4-trichloroallyl diisopropylthiocarbamate) and its metabolite 2, 3, 3-trichloroprop-2-enesulfonic acid (TCPSA) in or on the following food commodities:

Commodity | Parts per million
Barley, grain | 0.05
Barley, hay | 1.0
Barley, straw | 0.3
Beet, sugar, dried pulp | 0.2
Beet, sugar, roots | 0.1
Beet, sugar, tops | 0.5
Pea, dry | 0.2
Pea, field, hay | 1.0
Pea, field, vines | 0.5
Pea, succulent | 0.2
Wheat, grain | 0.05
Wheat, hay | 1.0
Wheat, straw | 1.0

(d) Indirect or inadvertent residues. [Reserved]

5. Section 180.339 is revised to read as follows:

§ 180.339 MCPA; tolerances for residues.

(a) General. (1) Tolerances are established for residues of the herbicide MCPA ((4-chloro-2-methylphenoxy)acetic acid), both free and conjugated, resulting from the direct application of MCPA or its sodium or dimethylamine salts, or its 2-ethylhexyl ester in or on the following food commodities:

Commodity | Parts per million
Alfalfa, forage | 0.5
Alfalfa, hay | 2.0
Barley, grain | 1.0
Barley, hay | 115
Barley, straw | 25
Clover, forage | 0.5
Clover, hay | 2.0
Flax, seed | 0.1
Grass, forage | 300
Grass, hay | 20
Lespedeza, forage | 0.5
Lespedeza, hay | 2.0
Oat, forage | 20
Oat, grain | 1.0
Oat, hay | 115
Oat, straw | 25
Pea, dry | 0.1
Pea, hay | 0.1
Pea, succulent | 0.1
Pea, vines | 0.1
Rye, forage | 20
Rye, grain | 1.0
Rye, straw | 25
Trefoil, forage | 0.5
Trefoil, hay | 2.0
Vetch, forage | 0.5
Vetch, hay | 2.0
Wheat, forage | 20
Wheat, grain | 1.0
Wheat, hay | 115
Wheat, straw | 25

(2) Tolerances are established for residues of the herbicide MCPA ((4-chloro-2-methylphenoxy)acetic acid) resulting from the direct application of MCPA or its sodium or dimethylamine salts, or its 2-ethylhexyl ester in or on the following food commodities:

Commodity | Parts per million
Cattle, fat | 0.1
Cattle, meat byproducts | 0.1
Cattle, meat | 0.1
Goat, fat | 0.1
Goat, meat byproducts | 0.1
Goat, meat | 0.1
Hog, fat | 0.1
Hog, meat byproducts | 0.1
Hog, meat | 0.1
Horse, fat | 0.1
Horse, meat byproducts | 0.1
Horse, meat | 0.1
Milk | 0.1
Sheep, fat | 0.1
Sheep, meat byproducts | 0.1
Sheep, meat | 0.1

(b) Section 18 emergency exemptions. [Reserved]

(c) Tolerances with regional registrations. [Reserved]

(d) Indirect or inadvertent residues. [Reserved]

[FR Doc. E6-15841 Filed 9-26-06; 8:45 am]

BILLING CODE 6560-50-S